DEPARTMENT OF STATE

Bureau of Diplomatic Security, Office Foreign Missions, Diplomatic Motor Vehicles

[Public Notice 3995]

Notice of Information Collection Under Emergency Review: Department of State, Office of Foreign Missions, Diplomatic Motor Vehicle Office Applications for Registration (Mission Vehicle), Registration (Personal Vehicle), Title, and Replacement Plates; Forms DS-100, DS-101, DS-102 and DS-104; OMB Collection Number 1405-0072

ACTION: Notice.

SUMMARY: The Department of State has submitted the following information collection request to the Office of Management and Budget (OMB) for review and approval in accordance with the emergency review procedures of the Paperwork Reduction Act of 1995.

Type of Request: Emergency Review.

Originating Office: DS/OFM/VTC/V.

Title of Information Collection:

Application for Registration (Mission Vehicle),

Application for Registration (Personal Vehicle),

Application for Title, and

Application for Replacement Plates.

Frequency: As often as is necessary to register vehicles, issue titles and issue license plates.

Form Numbers: DS-100, DS-101, DS-102 & DS-104.

Respondents: Foreign mission personnel assigned to the United States: diplomatic agents, consular officers, administrative and technical staff, specified official representatives of foreign governments to international organizations, and their dependents.

Estimated Number of Respondents: 18,488.

Average Hours Per Response: .5 hours (30 minutes).

Total Estimated Burden: 9,244.

The proposed information collection is published to obtain comments from the public and affected agencies. Emergency review and approval of this collection has been requested from OMB by April 15, 2002. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Attn: Jacqueline D. Robinson, U.S. Department of State, Office of Foreign Missions, State Annex 33, Room 218, Washington, DC 20008, who may be reached on (202) 895-3500.

Dated: March 7, 2002.
Theodore Strickler,
Deputy Assistant Secretary, Bureau of Diplomatic Security, Office of Foreign Missions, Department of State.

[FR Doc. 02-9928 Filed 4-22-02; 8:45 am]

BILLING CODE 4710-43-P